DEPARTMENT OF VETERANS AFFAIRS

Advisory Committee on Tribal and Indian Affairs, Notice of Meeting, Amended

The Department of Veterans Affairs (VA) gives notice under the Federal Advisory Committee Act, 5 U.S.C. 10., that the Advisory Committee on Tribal and Indian Affairs (ACTIA) will meet on April 4, 5 and 6, 2023 at the Seven Feathers Hotel Resort, 146 Chief Miwaleta Lane, Canyonville, OR 97417. The meeting sessions will begin, and end as follows:

Dates | Times
April 4, 2023 | 11 a.m.-7:30 p.m.—Eastern Standard Time (EST).
April 5, 2023 | 11 a.m.-7:30 p.m. EST.
April 6, 2023 | 11 a.m.-3 p.m. EST.

The meeting is open to the public who may attend in person or virtually during the meeting times listed.

The purpose of the Committee is to advise the Secretary on all matters relating to Indian tribes, tribal organizations, Native Hawaiian organizations, and Native American Veterans. This includes advising the Secretary on the administration of healthcare services and benefits to American Indians/Alaska Natives (AI/AN) and Native Hawaiian Veterans; thereby assessing those needs and whether VA is meeting them.

On April 4, 2023, the agenda will include opening remarks from the Committee Chair, Executive Sponsor and other VA officials. There will be updates on the PACT Act, Tribal HUD-VASH, co-pay exemptions for Native American Veterans, Veterans Health Administration/Indian Health Service (IHS) Memorandum of Understanding, IHS/Tribal health program reimbursement agreements and purchased referred care.

On April 5, 2023, the agenda will include updates and a panel discussion with senior officials from VA and IHS. Subsequent updates and briefings will be provided on the White House Council on Native American Affairs Health Committee; Tribal Veterans Representation Expansion Project; Veterans Benefits Administration Claims events in Indian Country; Native American Direct Loan; and the Native American Veteran Program. There will also be a discussion and presentation on “Operation Tiny Home” for Veterans.

On April 6, 2023, the Committee will receive a briefing on AI/AN Data for Veteran suicide/behavioral health. This will be followed by a discussion on the transition plan for the Committee with new and outgoing members. The Committee will then hold open discussion on topics relevant to the Committee and address follow-up and action items including dates for next meeting.

On all three days, there will be a comment period for those members of the public who have provided a written summary.

Members of the public can register to attend the meetings at the link below.

Meeting Link: https://www.zoomgov.com/meeting/register/vJIsfuyqrjgsGH0-wxw3P5_P_DoCIbkPoL0.

Individuals who wish to speak are invited to submit a 1-2-page summary of their comments no later than March 31, 2023, for inclusion in the official meeting record. Members of the public may submit written statements for the Committee's review to Peter Vicaire, at Peter.Vicaire@va.gov. Any member of the public seeking additional information should contact Peter Vicaire at the email address above or by calling 612-558-7744.

Dated: March 20, 2023.
Jelessa M. Burney,
Federal Advisory Committee Management Officer.

[FR Doc. 2023-06078 Filed 3-23-23; 8:45 am]

BILLING CODE 8320-01-P